DEPARTMENT OF DEFENSE

Department of the Army; Corps of Engineers

Intent To Prepare a Draft Environmental Impact Statement for the Caloosahatchee River Aquifer Storage and Recovery Pilot Project Located Southwest of LaBelle on the Berry Groves Property, Hendry County, FL

AGENCY: Department of the Army, U.S. Army Corps of Engineers, DoD.

ACTION: Notice of intent.

SUMMARY: The Jacksonville District, U.S. Army Corps of Engineers (Corps), intends to prepare an integrated Pilot Project Design Report and Draft Environmental Impact Statement (DEIS) for the Caloosahatchee River Aquifer Storage and Recovery (ASR) Pilot Project. The study is a cooperative effort between the Corps and the South Florida Water Management District (SFWMD), which is also a cooperating agency for this DEIS. This project will determine the feasibility of using ASR technology for water storage in the Caloosahatchee River basin as part of the Comprehensive Everglades Restoration Program. It will also collect scientific data to address the uncertainties associated with the ASR technology and for future optimization and design studies.

FOR FURTHER INFORMATION CONTACT: Ms. Susan Conner, U.S. Army Corps of Engineers, Planning Division, Environmental Branch, PO Box 4970, Jacksonville, FL 32232-0019, or by telephone at 904-232-1782.

SUPPLEMENTARY INFORMATION: a. Authorization: The Water Resources Development Act (WRDA) of 2000 (Pub. L. 106-541) was enacted in December 2000. Title VI of WRDA 2000 approved the Comprehensive Plan, provided authorization of an initial suite of projects, and included a number of other provisions including outreach and periodic reports to Congress. The Caloosahatchee ASR pilot project was authorized by Section 601(b)(2)(B) of WRDA 2000.

b. Project Scope: The pilot project will determine the feasibility of ASR technology for water storage at the site, the water quality characteristics of source waters, native subsurface waters and recovered waters and appropriate water treatment requirements, and recommend operational goals for a full scale ASR project within the Caloosahatchee River basin. The pilot project includes the construction of one ASR well into the Floridan Aquifer with a capacity of 5 million gallons per day, a source water collection system that will supply water to the ASR system, pre-injection and post recovery water treatment facilities, and other associated piping and treatment systems.

Operational plans for the test pilot are to collect surface water, treat to drinking water standards, and inject water into the Floridan Aquifer System (FAS) for a minimum of two cycle tests. Each cycle test includes a period of water storage followed by a period of recovery and discharge. Recovered water will be monitored and treated prior to discharge into surface water.

c. Preliminary Alternatives: Formulation of alternative plans will involve the selection of collection well configuration, water treatment technologies, investigation of intake and discharge sites, and investigation of best configuration of surface facilities of the project.

The Environmental Impact Statement (EIS) evaluation of the pilot project will include an evaluation of adverse environmental impacts, including but not limited to, water quality, socio-economic, archaeological and biological. In addition to adverse impacts, the evaluation will also focus on how well the plans perform with regard to specific technologic performance measure.

d. Issues: The EIS will consider impacts on water quality, ecosystem habitat, threatened and endangered species, health and safety, aesthetics and recreation, fish and wildlife resources, cultural resources, water availability, flood protection, and other potential impacts identified through scooping, public involvement, and interagency coordination.

e. Scoping: A scoping letter will be issued on March 2003 to interested parties. In addition, all parties are invited to participate in the scoping process by identifying any additional concerns on issues, studies needed, alternatives, procedures, and other matters related to the scoping process. As there have already been meetings held on the ASR technology and the related C-43 Reservoir Project, there is no plan for a public scoping meeting at this time.

f. Public Involvement: We invite the participation of affected Federal, State and local agencies, affected Indian tribes, and other interested private organizations and parties.

g. Coordination: The proposed action is being coordinated with the U.S. Fish and Wildlife Service (FWS) and the National Marine Fisheries Service under Section 7 of the Endangered Species Act, with the FWS under the Fish and Wildlife Coordination Act, and with the State Historic Preservation Officer.

h. Other Environmental Review and Consultation: The proposed action would involve evaluation for compliance with guidelines pursuant to Section 404(b) of the Clean Water Act; application (to the State of Florida) for Water Quality Certification pursuant to Section 401 of the Clean Water Act; certification of state lands, easements and right of ways, and determination of Coastal Zone Management Act consistency.

i. Agency Role: As cooperation agency, non-Federal sponsor, and leading local expert, SFWMD will provide information and assistance on the resources to be impacted and alternatives.

j. DEIS Preparation: The integrated Pilot Project Design Report, including a DEIS, is currently estimated for publication in March 2006.

Dated: March 12, 2003.
James C. Duck,
Chief, Planning Division.

[FR Doc. 03-7501 Filed 3-27-03; 8:45 am]

BILLING CODE 3710-AJ-M